DEPARTMENT OF HEALTH AND HUMAN SERVICES

Administration for Community Living

Agency Information Collection Activities; Proposed Collection; Comment Request; Small Business Innovation Research Program—Phase II

AGENCY: National Institute on Disability, Independent Living and Rehabilitation, Administration for Community Living (ACL), HHS.

ACTION: Notice.

SUMMARY: The Administration for Community Living (ACL), National Institute on Disability, Independent Living, and Rehabilitation Research (NIDLRR) is announcing an opportunity for public comment on the proposed collection of certain information. Under the Paperwork Reduction Act of 1995 (the PRA), Federal agencies are required to publish notice in the Federal Register concerning each proposed collection of information, including each proposed extension of an existing collection of information, and to allow 60 days for public comment in response to the notice. This notice solicits comments on the information collection requirements relating to the Small Business Innovation Research Program (SBIR)—Phase II.

DATES: Submit written or electronic comments on the collection of information by October 5, 2015.

ADDRESSES: Submit electronic comments on the collection of information to: Brian.Bard@acl.hhs.gov.

FOR FURTHER INFORMATION CONTACT: Brian Bard at 202-254-7345 or Brian.Bard@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL/NIDILRR is publishing notice of the proposed collection of information set forth in this document. With respect to the following collection of information, ACL/NIDILRR invites comments on: (1) Whether the proposed collection of information is necessary for the proper performance of ACL/NIDILRR's functions, including whether the information will have practical utility; (2) the accuracy of ACL/NIDILRR's estimate of the burden of the proposed collection of information, including the validity of the methodology and assumptions used; (3) ways to enhance the quality, utility, and clarity of the information to be collected; and (4) ways to minimize the burden of the collection of information on respondents, including through the use of automated collection techniques when appropriate, and other forms of information technology. ACL/NIDILRR proposes to use this set of data collection tools to be used as a grant application package for the information used to apply for new grants under the SBIR program (Phase II).

Public Law 106-554, the “Small Business Reauthorization Act of 2000, H.R. 5567” (the “Act”) was enacted on December 21, 2000. The Act requires certain agencies, including the Department of Health and Human Services (HHS) to establish a Small Business Innovation Research (SBIR) program by reserving a statutory percentage of their extramural research and development budgets to be awarded to small business concerns for research or research and development (R/R&D) through a uniform, highly competitive, three-phase process each fiscal year. The Act further requires the Small Business Administration (SBA) to issue policy directives for the general conduct of the SBIR programs within the Federal Government. The purpose of this program is to stimulate technological Innovation in the private sector, strengthen the role of small business in meeting Federal research and research and development needs, increase the commercial application of Department of Education (ED) supported research results, and improve the return on investment from Federally-funded research for economic and social benefits to the Nation.

Awards are made on the basis of competitively reviewed applications. The Department is requesting approval of this grant application package for the information used to apply for new grants under the Small Business Innovation Research (SBIR) Phase II program. Phase I is intended to determine, insofar as possible, the scientific or technical merit and feasibility of ideas. Phase II is intended to expand on the results of and to further pursue the development of a Phase I project. Phase II is the principal research and research and development effort. It requires a more comprehensive application, outlining the effort in detail including the commercial potential. Phase II applications must be Phase I grantees with findings that appear sufficiently promising as a result of Phase I. Applications are evaluated based on published criteria by panels of experts.

ACL/NIDILRR estimates the burden of this collection of information as 240 hours for project staff, 320 for reviewers, and 1,080 hours for individuals. Total burden is 1,640 hours per year.

Dated: July 31, 2015.
Kathy Greenlee,
Administrator and Assistant Secretary for Aging.

[FR Doc. 2015-19237 Filed 8-4-15; 8:45 am]

BILLING CODE 4154-01-P